FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

CFR Rinkens, LLC dba Rinkens International dba CFR Line (NVO), 15501 Texaco Avenue, Paramount, CA 90723, Officers: Maximiliaan Hoes, Manager (QI), Michele Blackmore, Vice President, Application Type: Add NVO Service.

Javelin Logistics Corporation (NVO & OFF), 7447A Morton Avenue, Newark, CA 94560, Officers: Susan M. Foster, International Services (QI), Malcolm Winspear, President, Application Type: QI Change.

Sig Global, Inc. (NVO & OFF), 16012 S. Western Avenue, Suite 300, Gardena, CA 90247, Officers: James J. Oh, President (QI), Chung Kwon Kim, Secretary, Application Type: New NVO & OFF License.

Super You Global (NVO & OFF), 391 Curtner Avenue, Suite 1, Palo Alto, CA 94306, Officers: Hu Wang, CEO (QI), Xin You, President, Application Type: New NVO & OFF License.

Windstream International Inc. (NVO & OFF), 2001 Santa Anita Avenue, Suite 203A, South El Monte, CA 91733, Officer: Jeff C. Chang, CEO (QI), Application Type: New NVO & OFF License.

By the Commission.
Dated: May 31, 2013.
Rachel E. Dickon,
Assistant Secretary.

[FR Doc. 2013-13325 Filed 6-4-13; 8:45 am]

BILLING CODE 6730-01-P